DEPARTMENT OF HEALTH AND HUMAN SERVICES

Food and Drug Administration

[Docket No. FDA-2019-N-0994]

Modified Risk Tobacco Product Applications for VLN™ King and VLN™ Menthol King, Combusted, Filtered Cigarettes, Submitted by 22nd Century Group, Inc.; Correction

AGENCY: Food and Drug Administration, HHS.

ACTION: Notice of availability; correction.

SUMMARY: The Food and Drug Administration is correcting a document entitled “Modified Risk Tobacco Product Applications for VLN™ King and VLN™ Menthol King, Combusted, Filtered Cigarettes, Submitted by 22nd Century Group, Inc.” that published in the Federal Register of July 25, 2019. The document announced the availability of modified risk tobacco product applications for public comment. The document published with incorrect submission tracking numbers. This document corrects that error.

FOR FURTHER INFORMATION CONTACT: Paul Hart, Center for Tobacco Products, Food and Drug Administration, 10903 New Hampshire Ave., Bldg. 71, Rm. G335, Silver Spring, MD 20993-0002, 1-877-287-1373, AskCTP@fda.hhs.gov.

SUPPLEMENTARY INFORMATION: In the Federal Register of July 25, 2019 (84 FR 35869), in FR Doc. 2019-15831, appearing on page 35869, the following correction is made:

1. On page 35870, in the third column, in the third full paragraph, the submission tracking numbers “MR0000140: VLN™” and “MR0000141: VLN™ Menthol King” are corrected to read “MR0000159: VLN™” and “MR0000160: VLN™ Menthol King”.

Dated: September 20, 2019.
Lowell J. Schiller,
Principal Associate Commissioner for Policy.

[FR Doc. 2019-20899 Filed 9-25-19; 8:45 am]

BILLING CODE 4164-01-P